SOCIAL SECURITY ADMINISTRATION

[Docket No. SSA-2010-0018]

Occupational Information System

AGENCY: Social Security Administration (SSA).

ACTION: Request for comments.

SUMMARY: We are requesting comments on the recommendations submitted to us by the Occupational Information Development Advisory Panel (Panel) in its report entitled “Content Model and Classification Recommendations for the Social Security Administration Occupational Information System, September 2009.” The complete Panel report (including appendices) is available online at: http://www.socialsecurity.gov/oidap/Documents/FinalReportRecommendations.pdf.

DATES: To ensure that we receive your feedback in a timely manner for consideration as the project develops, please submit your comments no later than June 30, 2010.

ADDRESSES: You may submit comments by any one of three methods—Internet, fax, or mail. Do not submit the same comments multiple times or by more than one method. Regardless of which method you choose, please state that your comments refer to Docket No. SSA-2010-0018 so that we may associate your comments with the correct document.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the Search function of the Web page to find docket number SSA-2010-0018. The system will issue a tracking number to confirm your submission. You will not be able to view your comment immediately because we must post each comment manually. It may take up to a week for your comment to be viewable.

2. Fax: Fax comments to (410) 597-0825.

3. Mail: Address your comments to the Office of Program Development and Research, Occupational Information Development Project, Social Security Administration, 3-E-26 Operations Building, 6401 Security Boulevard, Baltimore, MD 21235-6401.

Comments are available for public viewing on the Federal eRulemaking portal at http://www.regulations.gov or in person, during regular business hours, by sending a request to the project staff at OIDAP@ssa.gov.

FOR FURTHER INFORMATION CONTACT: Occupational Information Development Advisory Panel, Social Security Administration, 6401 Security Boulevard, 3-E-26 Operations, Baltimore, MD 21235-0001. Fax: 202-410-597-0825. E-mail to OIDAP@ssa.gov. For additional information, please visit the Panel Web site at http://www.ssa.gov/oidap.

For information on eligibility or filing for benefits, call our national toll-free number, 1-800-772-1213 or TTY 1-800-325-0778, or visit our Internet site, Social Security Online, at http://www.socialsecurity.gov.

SUPPLEMENTARY INFORMATION:

Electronic Version

The electronic file of this document is available on the date of publication of this notice in the Federal Register at http://www.gpoaccess.gov/fr/index.html.

Background

In 2008, we established the Occupational Information Development Advisory Panel to provide independent advice and recommendations on creating an occupational information system tailored specifically for our disability programs and adjudicative needs. The Panel's advice and recommendations will relate to our disability programs in the following areas:

1. Medical and vocational analysis of disability claims;

2. Occupational analysis, including definitions, ratings, and capture of physical and mental/cognitive demands of work;

3. Occupational information critical to our disability programs;

4. Data collection; and,

5. Other area(s) that will enable us to develop an occupational information system (OIS) and improve our medical-vocational adjudication policies and processes.

Request for Comments

In the first year, the Panel presented general recommendations regarding an occupational information system and also identified attributes of occupations and people that we should measure for purposes of disability adjudication. For occupations, these attributes included the work activities and related demands that a job requires of workers. For people, these attributes described characteristics that each worker brings to the job situation that may be involved when performing the job successfully. The Panel presented the full report, including the following seven general recommendations, to the Commissioner in September 2009. Both the recommendations and the proposed OIS are specific to our disability program needs.

1. A New Occupational Information System: Technical, Legal, and Data Requirements

The Panel recommended that SSA develop a new OIS to replace the Dictionary of Occupational Titles for use in our disability adjudication process. The Panel recommended that we design the new OIS to assure its data are not only useful, but also reliable, valid, and able to withstand any legal challenges.

Characteristics to support these requirements include: (a) Grouping of occupations at a level to support individualized disability assessment; (b) a cross-reference to the Standard Occupational Classification; (c) precise occupationally-specific data; (d) core work activities; (e) minimum levels of requirements needed to perform work; (f) discrete, observable measures of both work activities and worker characteristics; (g) a manageable number of data elements; (h) sampling methodology capturing the full range of work; (i) measures that are psychometrically sound; (j) collection of high quality data; (k) valid, accurate, and reproducible data; (l) information about whether core work activities could be performed in alternative ways; and, (m) terminology that is consistent with medical practice and human function.

2. Data Elements for the New Occupational Information System

Based upon previous research related to job analytic techniques, the Panel recommended a list of work activities applicable to all occupations and recommended that this list serve as a stimulus to develop SSA-specific instruments that measure the requirements of work. The Panel also recommended that new instruments include not only work activities, but also the physical and psychological abilities required to do work, work context, and any other attributes appropriate to disability adjudication.

3. The Classification of Occupations

The Panel recommended that once a large database representative of all work in the national economy is available, we should use various methods to classify jobs based upon work activities and identify work activities that we can use as a common language to match the abilities of people to appropriate work available within the economy.

4. Development of Internal and External Expertise for the Creation and Maintenance of the New Occupational Information System

The Panel recommended that we make the creation and continued maintenance of an up-to-date and legally defensible OIS a priority and, to support that effort, we should develop an independent, internal unit staffed with experts on work analysis and other related disability research needs. The Panel also recommended that we develop and maintain online research and professional communities to inform the unit's emerging and ongoing ideas, research, and methods.

5. Need for Basic & Applied Research

The Panel acknowledged that developing a new OIS requires significant research and recommended that early efforts should focus on the development and pilot-tests of measures of work requirements, usability analysis of these measures, and creation of an appropriate sampling plan. The Panel recommended that we conduct research to determine the most accurate and defensible sources of data for the OIS, the best methods for measuring the required work attributes, and if any other attributes are appropriate for study due to their potential for use in the adjudication process. They also cited the need to perform research focused on exploring and validating the link between the work requirements and attributes of the person, the environment, and other job-related factors. Finally, the Panel recommended applied research examining user needs and the effects of new instruments on our disability process and programs.

6. Measurement Considerations

In addition to the research needs described in Recommendation 5, the Panel recommended that we should consider research related to appropriate scales for inclusion in any new instruments that we develop. The Panel further stated that we should use scales that are legally defensible for our needs and focus on observable, discrete, characteristics such as frequency and duration.

7. Communication with Users, the Public & the Scientific Community

The Panel recommended that we use both traditional and emerging government and private media outlets to inform or solicit input from various audiences about all activities regarding the OIS development.

Dated: April 26, 2010.
Debra Tidwell-Peters,
Designated Federal Officer, Occupational Information Development Advisory Panel.

[FR Doc. 2010-10297 Filed 5-3-10; 8:45 am]

BILLING CODE 4191-02-P